NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by September 30, 2021 This application may be inspected by interested parties at the Permit Office, address below.

ADDRESSES: Comments should be addressed to Permit Office, Office of Polar Programs, National Science Foundation, 2415 Eisenhower Avenue, Alexandria, Virginia 22314 or ACApermits@nsf.gov

FOR FURTHER INFORMATION CONTACT: Polly Penhale, ACA Permit Officer, at the above address, 703-292-8030.

SUPPLEMENTARY INFORMATION: The National Science Foundation, as directed by the Antarctic Conservation Act of 1978 (Public Law 95-541, 45 CFR 671), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2022-007

1. Applicant: Dr. Robert Sanders, Dept. of Biology, Temple University, 1900 N. 12th St., Philadelphia PA 19122

Activity for Which Permit Is Requested: Importation of non-indigenous species. The applicant requests an Antarctic Conservation Act permit for use of bacterial cultures as a food source during a study of Antarctic mixotrophic phytoplankton aboard U.S. Antarctic Program vessels. The bacterial culture is a non-pathogenic marine species (Photobacterium angustum) obtained from American Type Culture Collection. Bacterial cultures will be fed to natural phytoplankton communities in a sealed, controlled setting aboard the vessel and isolated from the environment. At the conclusion of the experiments, any sample or culture remaining, including filtered seawater, would be destroyed by autoclaving on the ship. Supplies and equipment would be sterilized at the end of each experiment by autoclaving or using ethanol. The applicant and permit agents are experienced in using sterile techniques and in maintaining safe practices with microbial cultures.

Location: Western Antarctic Peninsula Region.

Dates of Permitted Activities: April 15-July 11, 2022.

Permit Application: 2022-009

2. Applicant: Steven D. Emslie, Dept. of Biology and Marine Biology, University of North Carolina, Wilmington, N.C. 28403

Activity for Which Permit Is Requested: Import into the U.S.A. The applicant seeks an Antarctic Conservation Act permit for the importation of tissue samples collected in the Ross Sea Region, Antarctica. Samples to be imported include avian bones and feathers collected from salvaged remains as well as fish, squid, krill, and marine algae samples collected opportunistically. Samples will be collected by Dr. Xiadong Liu, a collaborator of the applicant authorized under the Chinese Antarctic Program and shipped to the United States. Importation of these samples will allow for increased data collection and help to mitigate impacts to field research caused by the Covid-19 pandemic.

Location: Ross Sea Region, Antarctica.

Dates of Permitted Activities: February 1, 2022-January 31, 2023.

Erika N. Davis,
Program Specialist, Office of Polar Programs.

[FR Doc. 2021-18747 Filed 8-30-21; 8:45 am]

BILLING CODE 7555-01-P